DEPARTMENT OF TRANSPORTATION

Federal Aviation Administration

14 CFR Part 39

[Docket No. FAA-2016-3988; Directorate Identifier 2015-NM-130-AD; Amendment 39-18546; AD 2016-11-19]

RIN 2120-AA64

Airworthiness Directives; Airbus Airplanes

AGENCY: Federal Aviation Administration (FAA), Department of Transportation (DOT).

ACTION: Final rule.

SUMMARY: We are adopting a new airworthiness directive (AD) for certain Airbus Model A330-200, -200 Freighter, and -300 series airplanes; and all Airbus Model A340-200, -300, -500, and -600 series airplanes. This AD was prompted by reports of chafing of the feeder cable at the pylon-wing junction due to vibration; one report revealed that the cable loom plastic support bracket of the G-route was broken due to vibration; and another report revealed wire chafing due to clamp damage. This AD requires modifying the cable loom support bracket of the G-route of the inboard pylons at the pylon-wing junction. We are issuing this AD to prevent chafing of the wiring in the pylon-wing area, which could result in an electrical short circuit near a flammable fluid vapor zone, and consequent fire or fuel tank explosion.

DATES: This AD is effective July 22, 2016.

The Director of the Federal Register approved the incorporation by reference of certain publications listed in this AD as of July 22, 2016.

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-3988.

Examining the AD Docket

You may examine the AD docket on the Internet at http://www.regulations.gov by searching for and locating Docket No. FAA-2016-3988; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-200, -200 Freighter, and -300 series airplanes; and all Airbus Model A340-200, -300, -500, and -600 series airplanes. The NPRM published in the Federal Register on March 1, 2016 (81 FR 10549) (“the NPRM”). The NPRM was prompted by reports of chafing of the feeder cable at the pylon-wing junction due to vibration; one report revealed that the cable loom plastic support bracket of the G-route was broken due to vibration; and another report revealed wire chafing due to clamp damage. The NPRM proposed to require modifying the cable loom support bracket of the G-route of the inboard pylons at the pylon-wing junction. We are issuing this AD to prevent chafing of the wiring in the pylon-wing area, which could result in an electrical short circuit near a flammable fluid vapor zone, and consequent fire or fuel tank explosion.

The European Aviation Safety Agency (EASA), which is the Technical Agent for the Member States of the European Union, has issued EASA Airworthiness Directive 2015-0142, dated July 17, 2015 (referred to after this as the Mandatory Continuing Airworthiness Information, or “the MCAI”), to correct an unsafe condition for certain Airbus Model A330-200, -200 Freighter, and -300 series airplanes; and all Airbus Model A340-200, -300, -500, and -600 series airplanes. The MCAI states:

Two events have been reported of feeder cable chafing at the pylon-wing junction on A330 aeroplanes. Inspection of the affected area for the first event revealed that the bracket supporting the cables G-route, made in plastic, was broken. The second event was due to clamp damage. Failure of support bracket and/or damage of clamp led to the feeder cables gradually chafing away at the cut-out edge by vibration. Due to design similarity, A340 aeroplanes are also affected by this issue.

This condition, if not corrected, could create a short circuit, in combination with fuel vapour on [the] ground, possibly resulting in a fire or explosion.

To address this unsafe condition, Airbus developed modifications to be embodied in service through Airbus Service Bulletin (SB) A330-92-3132, SB A340-92-4100 or SB A340-92-5066, as applicable to aeroplane type and model.

For the reasons described above, this [EASA] AD requires the embodiment of these modifications [of the cable loom support bracket of the G-route of the inboard pylons] at the pylon/wing junction in [left-hand] LH and [right-hand] RH wings.

You may examine the MCAI in the AD docket on the Internet at http://www.regulations.gov by searching for and locating Docket No. FAA-2016-3988.

Comments

We gave the public the opportunity to participate in developing this AD. We received no comments on the NPRM or on the determination of the cost to the public.

Conclusion

We reviewed the relevant data and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

We reviewed the following Airbus service information:

• Service Bulletin A330-92-3132, Revision 01, dated May 21, 2015.

• Service Bulletin A340-92-4100, Revision 01, dated May 21, 2015.

• Service Bulletin A340-92-5066, dated June 25, 2014.

This service information describes procedures for modifying the cable loom support bracket of the G-route of the inboard pylons at the pylon-wing junction. This service information is reasonably available because the interested parties have access to it through their normal course of business or by the means identified in the ADDRESSES section.

Costs of Compliance

We estimate that this AD affects 90 airplanes of U.S. registry.

We also estimate that it takes about 8 work-hours per product to comply with the modification requirements of this AD. Required parts will cost about $900 per product. The average labor rate is $85 per work-hour. Based on these figures, we estimate the cost for the inspection specified in this AD on U.S. operators to be $142,200, or $1,580 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-11-19 Airbus: Amendment 39-18546; Docket No. FAA-2016-3988; Directorate Identifier 2015-NM-130-AD.

(a) Effective Date

This AD is effective July 22, 2016.

(b) Affected ADs

None.

(c) Applicability

This AD applies to the airplanes identified in paragraphs (c)(1) and (c)(2) of this AD, certificated in any category, all manufacturer serial numbers.

(1) Airbus Model A330-201, -202, -203, -223, -223F, -243, -243F, -301, -302, -303, -321, -322, -323, -341, -342, and -343 airplanes; except airplanes on which Airbus Modification 203672 has been embodied in production.

(2) Airbus Model A340-211, -212, -213, -311, -312, -313, -541, and -642 airplanes.

(d) Subject

Air Transport Association (ATA) of America Code 25, Equipment/Furnishings.

(e) Reason

This AD was prompted by reports of chafing of the feeder cable at the pylon-wing junction due to vibration; one report revealed that the cable loom plastic support bracket of the G-route was broken due to vibration; and another report revealed wire chafing due to clamp damage. We are issuing this AD to prevent chafing of the wiring in the pylon-wing area, which could result in an electrical short circuit near a flammable fluid vapor zone, and consequent fire or fuel tank explosion.

(f) Compliance

Comply with this AD within the compliance times specified, unless already done.

(g) Modification of the Feeder Cable

Within 18 months after the effective date of this AD: Modify the cable loom support bracket of the G-route 7701VB in the left-hand side of the inboard pylon, and the G-route 7702VB in the right-hand side of the inboard pylon, located at the pylon-wing junction, in accordance with the applicable service information specified in paragraphs (g)(1), (g)(2), and (g)(3) of this AD.

(1) Airbus Service Bulletin A330-92-3132, Revision 01, dated May 21, 2015.

(2) Airbus Service Bulletin A340-92-4100, Revision 01, dated May 21, 2015.

(3) Airbus Service Bulletin A340-92-5066, dated June 25, 2014.

(h) Credit for Previous Actions

This paragraph provides credit for the modification required by paragraph (g) of this AD, if the modification was performed before the effective date of this AD using Airbus Service Bulletin A330-92-3132, dated June 19, 2014; or Airbus Service Bulletin A340-92-4100, dated June 19, 2014; as applicable. This service information is not incorporated by reference in this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) Refer to Mandatory Continuing Airworthiness Information (MCAI) EASA Airworthiness Directive 2015-0142, dated July 17, 2015, for related information. This MCAI may be found in the AD docket on the Internet at http://www.regulations.gov by searching for and locating Docket No. FAA-2016-3988.

(2) Service information identified in this AD that is not incorporated by reference is available at the addresses specified in paragraphs (k)(4) and (k)(5) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on July 22, 2016.

(i) Airbus Service Bulletin A330-92-3132, Revision 01, dated May 21, 2015.

(ii) Airbus Service Bulletin A340-92-4100, Revision 01, dated May 21, 2015.

(iii) Airbus Service Bulletin A340-92-5066, dated June 25, 2014.

(4) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on May 26, 2016.
Michael Kaszycki,
Acting Manager, Transport Airplane Directorate, Aircraft Certification Service.

[FR Doc. 2016-13105 Filed 6-16-16; 8:45 am]

BILLING CODE 4910-13-P